DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by June 25, 2004. The approval will authorize FEMA to use the collection through December 25, 2004. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: Homeland Security Presidential Directive (HSPD)-5, Management of Domestic Incidents, directs the Secretary of Homeland Security to develop and administer a National Incident Management System (NIMS). The NIMS provides a consistent nationwide approach for Federal, State, local and tribal governments to work together to prepare, prevent, respond, and recover from domestic incidents, regardless of cause, size, or complexity. Beginning in FY 2005, Federal departments and agencies must make adoption of the NIMS by State, local, and tribal governments a requirement for Federal preparedness assistance through grants, contracts and other activities. The Secretary must develop standards and guidelines for determining whether a State or local entity has adopted the NIMS. To evaluate compliance with NIMS, the Emergency Preparedness & Response Directorate (EPR) developed the National Incident Management System Compliance Assurance Support Tool (NIMCAST), a Web-based self-assessment tool designed to help Federal, State, local and tribal governments, organizations, and jurisdictions determine their capabilities and compliance against the requirements established by NIMS.

Collection of Information

Title: National Incident Management System Compliance Assurance Support Tool (NIMCAST).

Type of Information Collection: New collection.

OMB Number: 1660-NEW8.

Abstract: The National Incident Management System Compliance Assurance Support Tool (NIMCAST) is the assessment tool used to: (a) Evaluate State, local and Tribal governments' compliance with the standards and requirements established in the National Incident Management System (NIMS) as mandated by HSPD-5, (b) determine eligibility for Federal preparedness assistance, and (c) provide management tools to strengthen incident management programs at the department, agency, or jurisdiction level. Information collected through NIMCAST contains readiness metrics and elements that support the national preparedness goal, including standards for preparedness assessments and strategies, and a system for assessing the Nation's overall preparedness to respond to major events, regardless of cause, size, or complexity, especially those involving acts of terrorism. By contributing to the establishment of a national baseline for compliance by all Federal, State, local, and tribal governments with the NIMS, NIMCAST enhances the ability of the United States to manage domestic incidents by establishing a single, comprehensive national incident management system.

Affected Public: Officials at the Federal, State, local and tribal governments, and other organizations involved in emergency management functions. There will be 5 categories of jurisdictions and/or organizations comprised of: (a) 50 states (b) 3,066 counties (c) 140 independent cities (d) 579 federally-recognized Indian tribes, and (e) 27 federal agencies.

Number of Respondents: 39,620.

Estimated Time per Respondent: Overall completion time for compiling and reporting information in the self-assessment questionnaire is 30 hours. Due to the diversity of functions involved in emergency management activities, it is estimated that 10 respondents per jurisdiction will spent 3 hours each toward the completion of the instrument.

Estimated Total Annual Burden Hours: 118,860 hours.

Estimated Cost: The total cost to the Federal government for this information collection is estimated at $493,000, allocated as follows: $400,000 for Contract support for software development, $10,000 for Maintenance service, and $83,000 for one GS-13 permanent full-time (PFT) employee coordinating information collection activities. There is no cost to the respondents other than the hourly wage proportional to the time spent compiling and reporting the information. Estimates of the Annualized Cost to respondents is based on the national average hourly rate of emergency management and related functions and occupations of $ 26.00 for a total of $3,090,360 for all respondents combined. Based on the estimated completion time of 3-hours, the cost per respondent is approximately $78.00. Total cost per completed questionnaire equals $780, based on the overall completion time of 30 hours per questionnaire per jurisdiction.

Frequency of Response: One-time.

Comments: Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. FEMA will continue to accept comments for 60 days from the date of this notice.

OMB Address: Interested persons are invited to submit written comments on the proposed information collection to the Office of Information and Regulatory Affairs, Attn: OMB Desk Officer for the Federal Emergency Management Agency, Emergency Preparedness & Response Directorate, U.S. Department of Homeland Security, (Proposed New Information Collection—National Incident Management System Compliance Assurance Support Tool (NIMCAST), facsimile number (202) 395-6974.

FOR FURTHER INFORMATION CONTACT: Requests for additional information or copies of the information collection should be made to Muriel B. Anderson, Chief, Records Management, Information Resources Management Branch, Information Technology Services Division, Federal Emergency Management Agency, Emergency Preparedness and Response Directorate, U.S. Department of Homeland Security, 500 C Street, SW., Room 316, Washington, DC 20472. Facsimile number (202) 646-3347, or at e-mail address FEMA-Information-Collections@dhs.gov.

Dated: May 28, 2004.
George S. Trotter,
Acting Branch Chief, Information Resources Management Branch, Information Technology Services Division.

[FR Doc. 04-12697 Filed 6-3-04; 8:45 am]

BILLING CODE 9110-17-P